ENVIRONMENTAL PROTECTION AGENCY

[FRL-7908-8]

Notice of Proposed Administrative Settlement Pursuant to the Clean Water Act; Kinder Morgan, Sparks Facility

AGENCY: Environmental Protection Agency.

ACTION: Notice, request for public comments.

SUMMARY: In accordance with Section 311(B)(6)(C) of the Clean Water Act 33 U.S.C. 1321 (B)(6)(C), notice is hereby given of a proposed Class II consent Agreement (“Agreement”) Kinder Morgan facility in Sparks, Nevada. The Environmental Protection Agency determined that the facility had not conducted all of the spill response exercises and drills required by the Facility Response Plan. The Agreement requires the Respondent pay a civil penalty of $26,630 and provide emergency response equipment to the Truckee Fire Department as a supplemental environmental project.

For thirty (30) days following the date of publication of this notice, the Agency will receive written comments relating to the Agreement. The agency will consider all comments received and may modify or withdraw its consent to the Agreement if comments received disclose facts or considerations which indicate that the Agreement is inappropriate, improper or inadequate. The Agency's response to any comments received will be available for public inspection at USEPA Region IX, 75 Hawthorne Street, San Francisco, California.

DATES: Comments must be submitted on or before June 8, 2005.

ADDRESSES: The proposed Agreement may be obtained from Mark Samolis, Environmental Protection Specialist, telephone (415) 972-4273. Comments regarding the proposed Agreement should be addressed to Mark Samolis (SFD-9) at EPA, Region IX, 75 Hawthorne Street, San Francisco, California 94105, and should reference the Kinder Morgan Sparks Consent Agreement and USEPA Docket No. OPA-9-2005-0004.

FOR FURTHER INFORMATION CONTACT: J. Andrew Helmlinger, Office of Regional Counsel, telephone (415) 972-3904, USEPA Region IX, 75 Hawthorne Street, San Francisco, California 94105.

Dated: April 29, 2005.
Betsy Curnow,
Acting Chief Response, Planning & Assessment Branch, Superfund Division (SFD-9).

[FR Doc. 05-9309 Filed 5-6-05; 8:45 am]

BILLING CODE 6560-50-P